DEPARTMENT OF HEALTH AND HUMAN SERVICES

Centers for Medicare & Medicaid Services

42 CFR Part 414

[CMS-1738-F, CMS-1687-F, and CMS-5531-F]

RINs 0938-AU17, 0938-AT21, and 0938-AU32

Medicare Program; Durable Medical Equipment, Prosthetics, Orthotics, and Supplies (DMEPOS) Policy Issues, and Level II of the Healthcare Common Procedure Coding System (HCPCS); DME Interim Pricing in the CARES Act; Durable Medical Equipment Fee Schedule Adjustments To Resume the Transitional 50/50 Blended Rates To Provide Relief in Rural Areas and Non-Contiguous Areas

Correction

In Rule document 2021-27763, appearing on pages 73860 through 73911, in the issue of Tuesday, December 28, 2021, make the following correction:

§ 414.210 General payment rules. [Corrected]

On page 73911, in the second column, in the twelfth line from the top, the text “<AMDPAR>” should read “February 28, 2022”.

[FR Doc. C1-2021-27763 Filed 12-30-21; 4:15 pm]

BILLING CODE 0099-10-D